ENVIRONMENTAL PROTECTION AGENCY

40 CFR Part 52

[EPA-R07-OAR-2010-0011; FRL-9122-4]

Approval and Promulgation of Implementation Plans; State of Iowa

AGENCY: Environmental Protection Agency (EPA).

ACTION: Direct final rule.

SUMMARY: EPA is taking direct final action to approve revisions to the Iowa State Implementation Plan (SIP) submitted by the State on April 28, 2009. The purpose of these revisions is to update existing air quality rules; make corrections, clarifications and improvements; and to add information with regard to the application of permit exemptions. EPA is approving the SIP revisions pursuant to section 110 of the Clean Air Act.

DATES: This direct final rule will be effective May 4, 2010, without further notice, unless EPA receives adverse comment by April 5, 2010. If EPA receives adverse comment, we will publish a timely withdrawal of the direct final rule in the Federal Register informing the public that the rule will not take effect.

ADDRESSES: Submit your comments, identified by Docket ID No. EPA-R07-OAR-2010-0011, by one of the following methods:

1. http://www.regulations.gov. Follow the on-line instructions for submitting comments.

2. E-mail: casburn.tracey@epa.gov.

3. Mail or Hand Delivery: Tracey Casburn, Environmental Protection Agency, Air Planning and Development Branch, 901 North 5th Street, Kansas City, Kansas 66101.

Instructions: Direct your comments to Docket ID No. EPA-R07-OAR-2010-0011. EPA's policy is that all comments received will be included in the public docket without change and may be made available online at http://www.regulations.gov, including any personal information provided, unless the comment includes information claimed to be Confidential Business Information (CBI) or other information whose disclosure is restricted by statute. Do not submit through http://www.regulations.gov or e-mail information that you consider to be CBI or otherwise protected. The http://www.regulations.gov Web site is an “anonymous access” system, which means EPA will not know your identity or contact information unless you provide it in the body of your comment. If you send an e-mail comment directly to EPA without going through http://www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the http://www.regulations.gov index. Although listed in the index, some information is not publicly available, i.e., CBI or other information whose disclosure is restricted by statute. Certain other material, such as copyrighted material, will be publicly available only in hard copy form. Publicly available docket materials are available either electronically in http://www.regulations.gov or in hard copy at the Environmental Protection Agency, Air Planning and Development Branch, 901 North 5th Street, Kansas City, Kansas 66101. The Regional Office's official hours of business are Monday through Friday, 8 a.m. to 4:30 p.m. excluding Federal holidays. Interested persons wanting to examine these documents should make an appointment with the office at least 24 hours in advance.

FOR FURTHER INFORMATION CONTACT: Tracey Casburn at (913) 551-7016, or by e-mail at casburn.tracey@epa.gov.

SUPPLEMENTARY INFORMATION: Throughout this document “we,” ”us,” or “our” refer to the EPA.

Table of Contents

I. What is being addressed in this document?

II. What revisions is EPA approving?

III. What action is EPA taking?

IV. Statutory and Executive Order Reviews

I. What is being addressed in this document?

The State has revised Chapter 22 of the State air pollution control rules promulgated by the State's Environmental Protection Commission. EPA is approving the revisions described below for the reasons discussed in this document.

II. What revisions is EPA approving?

The State made revisions to Chapter 22, “Controlling Pollution,” to clarify the terms and conditions of permit exemptions for certain internal combustion engines and spray booths. Those revisions are described in this document.

The State added a requirement to Iowa Rule 567-22.1(2)“r” that the owner or operator of an internal combustion engine with a brake horsepower of less than 400, measured at the shaft, must submit a certification to the Iowa Department of Natural Resources that the engine is in compliance with Federal New Source Performance Standards listed at 40 CFR Part 60, Subpart IIII or Subpart JJJJ and Federal National Emission Standards for Hazardous Air Pollutants (NESHAPS) listed at 40 CFR Part 63, Subpart ZZZZ.

The State amended Iowa Rule 567-22.8(1) to add clarification that the facilities, which spray one gallon per day or less of sprayed material on a facility-wide basis, are exempt from all other requirements of Iowa Rule 567-22 with the exception that the owner or operator must adhere to record keeping requirements specified in the rule for the sprayed material. The revision also requires that the owner or operator must certify that the facility is in compliance with or otherwise exempt from the Federal regulations specified in Iowa Rule 567-22.8(1)“e” (the NESHAPS for paint stripping and surface coating at area sources, and the NESHAPS for metal fabricating and finishing at area sources).

The State added amendments to the same rule clarifying that facilities, which spray more than one gallon per day but never more than three gallons per day on a facility-wide basis, are exempt from all other requirements of Iowa State Rule 567-22 except the owner or operator must adhere to certification, recordkeeping and emissions venting requirements as identified in the rule. The State added a requirement that the owner or operator must certify that the facility is in compliance with or otherwise exempt from the Federal regulations specified in Iowa Rule 567-22.8(1)“e” (described above).

The State added language clarifying that facilities, which spray more than three gallons per day on a facility-wide basis, are not eligible to use the permit by rule for spray booths and must apply for a construction permit as required by subrules 567-22.1(1) and 567-22.1(3) unless otherwise exempt.

The State added language explaining its requirements for the “Notification Letter.” Facilities which claim to be permitted by provisions of the rule must submit a notification letter, on forms provided by the State, certifying that the facility meets the following requirements:

(1) All paint booths and associated equipment are in compliance with the provisions of Iowa Rule 567-22.8(1);

(2) All paint booths and associated equipment are in compliance with all applicable requirements, including but not limited to, the allowable particulate emission rate for painting and surface coating operations of 0.01 gr/scf of exhaust gas as specified in Iowa Rule 567-23.4(13); and

(3) All paint booths and associated equipment are in compliance with or otherwise exempt from the Federal NESHAPS at 40 CFR Part 63, subpart HHHHHH.

This revision also amends the numbering system of Iowa Rule 567-22.8(1)“e” to allow for the addition of the requirements of the notification letter.

III. What action is EPA taking?

EPA is taking final action to approve the revisions to the Iowa SIP. The revisions submitted pertain to corrections, clarifications and improvements as listed previously in this document. These modifications either clarify existing requirements or add additional requirements for sources to qualify for permit exemptions. Therefore, EPA has determined that the revisions will not adversely affect the air quality in the State of Iowa and will not relax the SIP.

The state submittal has met the public notice requirements for SIP submissions in accordance with 40 CFR 51.102. The submittal also satisfied the completeness criteria of 40 CFR part 51, appendix V. The revisions meet the substantive SIP requirements of the CAA, including section 110 and implementing regulations.

EPA is processing this action as a direct final action because the revisions make changes to the existing rules which are noncontroversial. Therefore, we do not anticipate any adverse comments. Please note that if EPA receives adverse comment on part of this rule and if that part can be severed from the remainder of the rule, EPA may adopt as final those parts of the rule that are not the subject of an adverse comment.

IV. Statutory and Executive Order Reviews

Under the Clean Air Act, the Administrator is required to approve a SIP submission that complies with the provisions of the Act and applicable Federal regulations. 42 U.S.C. 7410(k); 40 CFR 52.02(a). Thus, in reviewing SIP submissions, EPA's role is to approve state choices, provided that they meet the criteria of the Clean Air Act. Accordingly, this action merely approves state law as meeting Federal requirements and does not impose additional requirements beyond those imposed by state law. For that reason, this action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the Clean Air Act; and

• Does not provide EPA with the discretionary authority to address, as appropriate, disproportionate human health or environmental effects, using practicable and legally permissible methods, under Executive Order 12898 (59 FR 7629, February 16, 1994).

In addition, this rule does not have tribal implications as specified by Executive Order 13175 (65 FR 67249, November 9, 2000), because the SIP is not approved to apply in Indian country located in the state, and EPA notes that it will not impose substantial direct costs on tribal governments or preempt tribal law.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by May 4, 2010. Filing a petition for reconsideration by the Administrator of this final rule does not affect the finality of this action for the purposes of judicial review nor does it extend the time within which a petition for judicial review may be filed, and shall not postpone the effectiveness of such rule or action. Parties with objections to this direct final rule are encouraged to file a comment in response to the parallel notice of proposed rulemaking for this action published in the proposed rules section of today's Federal Register, rather than file an immediate petition for judicial review of this direct final rule, so that EPA can withdraw this direct final rule and address the comment in the proposed rulemaking. This action may not be challenged later in proceedings to enforce its requirements. (See section 307(b)(2).)

List of Subjects in 40 CFR Part 52

Environmental protection, Air pollution control, Carbon monoxide, Incorporation by reference, Intergovernmental relations, Lead, Nitrogen dioxide, Ozone, Particulate matter, Reporting and recordkeeping requirements, Sulfur oxides, Volatile organic compounds.

Dated: February 23, 2010.
Karl Brooks,
Regional Administrator, Region 7.

40 CFR part 52 is amended as follows:

PART 52—[AMENDED]

1. The authority citation for part 52 continues to read as follows:

Authority: 42 U.S.C. 7401 et seq.

Subpart Q—Iowa

2. In § 52.820(c) the table is amended by revising the entries for 567-22.1 and 567-22.8 to read as follows:

§ 52.820 Identification of plan.

* * * * *

(c) * * *

EPA-Approved Iowa Regulations
Iowa citation | Title | State effective date | EPA approval date | Explanation
Iowa Department of Natural Resources Environmental Protection Commission [567]
| * * * * * * *
Chapter 22—Controlling Pollution
567-22.1 | Permits required for New or Existing Stationary Sources | 3/18/09 | 3/5/10 [insert FR page number where the document begins] |
| * * * * * * *
567-22.8 | Permits By Rule | 3/18/09 | 3/5/10 [insert FR page number where the document begins] |
|  | * * * * * * *

* * * * *

[FR Doc. 2010-4548 Filed 3-4-10; 8:45 am]

BILLING CODE 6560-50-P